DEPARTMENT OF COMMERCE

National Oceanic and Atmospheric Administration

[I.D. 081701B]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on September 10-13, 2001. For specific dates and times of the meetings see SUPPLEMENTARY INFORMATION.

ADDRESSES: These meetings will be held at the W New Orleans Hotel, 333 Poydras Street, New Orleans, LA 70130; telephone: 504-525-9444.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

September 12

1 p.m.—Convene.

1:15 p.m.— 5:30 p.m.—Receive public testimony on Draft Shrimp Amendment 10/Environmental Assessment (EA).

September 13

8:30 a.m.—12 noon—Receive a report of the Reef Fish Management Committee.

1:30 p.m.—2 p.m.—Receive a report of the Shrimp Management Committee.

2 p.m.—2:15 p.m.—Receive a report of the Law Enforcement Committee.

2:15 p.m.—2:30 p.m.—Receive a report of the Budget Committee.

2:30 p.m.—2:45 p.m.—Receive a report of the Personnel Committee.

2:45 p.m.—3 p.m.—Receive a report of the Closed Council Session.

3 p.m.—3:15 p.m.—Receive a report of the International Commission for the Conservation of Atlantic Tunas Advisory Committee.

3:15 p.m.—3:30 p.m.—Receive Enforcement Reports.

3:30 p.m.—3:45 p.m.—Receive a report of the NMFS National Environmental Policy Act/Sustainable Fisheries Act Workshop.

3:45 p.m.— 4 p.m.—Receive the NMFS Regional Administrator’s Report.

4 p.m.—4:15 p.m.—Receive Director’s Reports.

4:15 p.m.— 4:30 p.m.—Other Business.

4:30 p.m.— 4:45 p.m.—Election of Chairman and Vice Chairman.

September 10

10 a.m.—11 a.m.—Orientation Session for New Members.

11 a.m.—12 noon—CLOSED SESSION—Full Council to review litigation affecting fishery management plan amendments.

1:30 p.m.—5:30 p.m—Convene the Reef Fish Management Committee to review Draft Reef Fish Amendment 18 and a draft supplemental environmental impact statement and to make their recommendations to the Council. The full Council will consider those recommendations on Thursday morning. Final action on Reef Fish Amendment 18 will be taken at the December 10-14, 2001 Council meeting in Biloxi, MS.

September 11

8:30 a.m.—11 a.m.—Continue the meeting of the Reef Fish Management Committee, if necessary.

11 a.m.—12 noon—Convene the Budget Committee to discuss the CY 2001 budget.

1:30 p.m.— 4:30 p.m.—Convene the Shrimp Management Committee to review Draft Amendment 10/EA to develop their recommendations to the full Council for final action. The full Council will consider those recommendations on Thursday afternoon. The Shrimp Committee will also hear a report on the Gulf and South Atlantic Fishery Foundation’s Bycatch and Effort Monitoring Program.

4:30 p.m.— 5:30 p.m.— Convene the Personnel Committee to consider revisions to the personnel section of the Administrative Handbook.

September 12

8:30 a.m.—11 a.m.—Convene a joint meeting of the Law Enforcement Committee and Law Enforcement Advisory Panel to receive progress reports on the Operations Plan and Cooperative Enforcement Agreements.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council’s intent to take final action to address the emergency. A copy of the Committee schedule and agenda can be obtained by calling (813) 228-2815.

Special Accommodations

These meetings are physically accessible to people with disabilities. Requests for sign language interpretation or other auxiliary aids should be directed to Anne Alford at the Council (see ADDRESSES) by August 31, 2001.

Dated: August 21, 2001.
Richard W. Surdi,
Acting Director, Office of Sustainable Fisheries, National Marine Fisheries Service.

[FR Doc. 01-21599 Filed 8-24-01; 8:45 am]

BILLING CODE 3510-22-S